ENVIRONMENTAL PROTECTION AGENCY

[FRL-9939-30-Region 2]

Prevention of Significant Deterioration of Air Quality (PSD) Final Determinations in New Jersey, Puerto Rico, and the Virgin Islands

AGENCY: Environmental Protection Agency (EPA).

ACTION: Notice of final actions.

SUMMARY: The purpose of this notice is to announce that between April 16, 2014 and Oct 1, 2015, the Region 2 Office of the Environmental Protection Agency (EPA), issued one final agency action and the New Jersey Department of Environmental Protection (NJDEP) issued three final agency actions pursuant to the Prevention of Significant Deterioration of Air Quality (PSD) regulations codified at 40 CFR 52.21.

DATES: The effective dates for the above determinations are delineated in the chart in the SUPPLEMENTARY INFORMATION section.

FOR FURTHER INFORMATION CONTACT: Mr. Frank Jon, Environmental Engineer of the Permitting Section, Air Programs Branch, Clean Air and Sustainability Division, Environmental Protection Agency, Region 2 Office, 290 Broadway, 25th Floor, New York, NY 10007-1866, at (212) 637-4085.

SUPPLEMENTARY INFORMATION: Pursuant to the PSD regulations, the Region 2 Office of the USEPA, and the NJDEP have made final PSD determinations relative to the facilities listed below:

Name | Location | Project | Agency | Final action | Date
West Deptford Energy, LLC | West Deptford Township, New Jersey | A new project (Phase II) at an existing electric generating facility. It is a 427 Mw Siemens combined-cycle combustion turbine unit with duct burners, a 40 MM Btu/hr auxiliary boiler, an emergency generator, a fire water pump, and a multi-cell cooling tower | NJDEP | New PSD Permit | June 2, 2014.
RC Cape May Holdings, LLC | Beesley's Point, New Jersey | BL England Repowering Project—18-month extension for commencing construction of the project | NJDEP | PSD Permit Extension Granted | October 2, 2014.
West Deptford Energy, LLC | West Deptford Township, New Jersey | Extension of the 18-month deadline for commencing construction of the Phase II project listed above | NJDEP | PSD Permit Extension Granted | September 29, 2015.
Energy Answers, LLC | Arecibo, Puerto Rico | Extension of the 18-month deadline for commencing construction of the Arecibo Puerto Rico Renewable Energy Project which consists of two 1,050 tons per day (each) refuse-derived fuel municipal waste combustors, a 77 megawatt steam turbine electrical-generator, and other ancillary equipment | EPA | PSD Permit Extension Granted | October 1, 2015 (effective date of the PSD permit extended until April 10, 2017).

This notice lists only the facilities that have received final PSD determinations. Anyone who wishes to review these determinations and related materials should contact the following offices:

EPA Actions

U.S. Environmental Protection Agency, Region 2 Office, Air Programs Branch—25th Floor, 290 Broadway, New York, New York 10007-1866, (212) 637-4085.

NJDEP Actions

New Jersey Department of Environmental Protection, Division of Environmental Quality, Air Quality Permitting Element, Bureau of Preconstruction Permits, 401 East State Street, Trenton, New Jersey 08625, (609) 777-0286.

With respect to the final PSD permit for West Deptford Energy, LLC, pursuant to 40 CFR 124.19(l), a prerequisite to seeking judicial review of the determination under section 307(b)(1) of the Clean Air Act (the Act), 42 U.S.C. 7607(b)(1), is that parties must have previously filed a petition with the EPA Environmental Appeals Board under 40 CFR 124.19(a). If the prerequisite has been met, review may be sought only by the filing of a petition for review in the United States Court of Appeals for the appropriate circuit within 60 days from the date on which the determination is published in the Federal Register. With respect to the PSD permit extensions, pursuant to section 307(b)(1) of the Clean Air Act, judicial review of this extension decision may be sought by filing a petition for review in the United States Court of Appeals for the appropriate circuit within 60 days from the date on which these determinations are published in the Federal Register. Under section 307(b)(2) of the Act, the determinations in this Notice shall not be subject to later judicial review in civil or criminal proceedings for enforcement.

Dated: November 6, 2015.
Judith A. Enck,
Regional Administrator, Region 2.

[FR Doc. 2015-30098 Filed 11-24-15; 8:45 am]

BILLING CODE 6560-50-P